GOVERNMENT ACCOUNTABILITY OFFICE

Request for Medicaid and CHIP Payment and Access Commission Nominations

AGENCY: U.S. Government Accountability Office (GAO).

ACTION: Request for letters of nomination and resumes.

SUMMARY: The Children's Health Insurance Program Reauthorization Act of 2009 (CHIPRA) established the Medicaid and CHIP Payment and Access Commission (MACPAC) to review Medicaid and CHIP access and payment policies and to advise Congress on issues affecting Medicaid and CHIP. CHIPRA gave the Comptroller General of the United States responsibility for appointing MACPAC's members. GAO is now accepting nominations to MACPAC that will be effective May 1, 2017. Letters of nomination and resumes should be submitted no later than February 24, 2017 to ensure adequate opportunity for review and consideration of nominees prior to appointment of new members. Nominations should be sent to the email or mailing address listed below. Acknowledgement of submissions will be provided within a week of submission. Please contact Will Black at (202) 512-6482 if you do not receive an acknowledgement.

ADDRESSES:

Email: MACPACappointments@gao.gov.

Mail: U.S. GAO, Attn: MACPAC Appointments, 441 G Street NW., Washington, DC 20548.

FOR FURTHER INFORMATION CONTACT:

GAO: Office of Public Affairs, (202) 512-4800. Public Law 111-3, Section 506; 42 U.S.C. 1396.

Gene L. Dodaro,
Comptroller General of the United States.

[FR Doc. 2017-00044 Filed 1-11-17; 8:45 am]

BILLING CODE 1610-02-M